FEDERAL FINANCIAL INSTITUTIONS EXAMINATION COUNCIL

[Docket No. AS11-21]

Appraisal Subcommittee Notice of Meeting

AGENCY: Appraisal Subcommittee of the Federal Financial Institutions Examination Council.

ACTION: Notice of meeting.

Description: In accordance with Section 1104 (b) of Title XI of the Financial Institutions Reform, Recovery, and Enforcement Act of 1989, as amended, notice is hereby given that the Appraisal Subcommittee (ASC) will meet in open session for its regular meeting:

Location: OCC—250 E Street, SW, Room 7C/7CA. Washington, DC 20219.

Date: August 10, 2011.

Time: 10:30 a.m.

Status: Open.

Matters To Be Considered:

Summary Agenda: July 21, 2011 minutes—Open Session.

(No substantive discussion of the above items is anticipated. These matters will be resolved with a single vote unless a member of the ASC requests that an item be moved to the discussion agenda.)

Discussion Agenda:

AQB Compliance Status for Licensed Appraisers Listed on the National Registry;

Appraisal Foundation April 2011 Grant Reimbursement Request;

Delaware Compliance Review;

Illinois Compliance Review;

Puerto Rico Compliance Review;

Utah Compliance Review;

Virgin Islands Compliance Review.

How to Attend and Observe an ASC Meeting:

E-mail your name, organization and contact information to meetings@asc.gov.

You may also send a written request via U.S. Mail, fax or commercial carrier to the Executive Director of the ASC, 1401 H Street, NW., Ste 760, Washington, DC 20005. The fax number is 202-289-4101. Your request must be received no later than 4:30 p.m., E.T., on the Monday prior to the meeting. Attendees must have a valid government-issued photo ID and must agree to submit to reasonable security measures. The meeting space is intended to accommodate public attendees. However, if the space will not accommodate all requests, the ASC may refuse attendance on that reasonable basis. The use of any video or audio tape recording device, photographing device, or any other electronic or mechanical device designed for similar purposes is prohibited at ASC meetings.

Dated: August 1, 2011.
James R. Park,
Executive Director.

[FR Doc. 2011-19787 Filed 8-3-11; 8:45 am]

BILLING CODE P